DEPARTMENT OF THE INTERIOR

National Park Service

[NPS-WASO-NAGPRA-NPS0036126; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside (UCR) has completed an inventory of human remains and associated funerary objects and has determined that there is a cultural affiliation between the human remains and associated funerary objects and Indian Tribes or Native Hawaiian organizations in this notice. The human remains and associated funerary objects were removed from Riverside in Riverside County, CA.

DATES: Repatriation of the human remains and associated funerary objects in this notice may occur on or after August 7, 2023.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside. The National Park Service is not responsible for the determinations in this notice. Additional information on the determinations in this notice, including the results of consultation, can be found in the inventory or related records held by the University of California, Riverside.

Description

Human remains representing, at minimum, one individual were removed from Riverside County, California. In 1973, the cremated remains belonging to a Native American individual were removed from a construction site in Indio by Thomas King. (UCR NAGPRA Repatriation Coordinator Megan Murphy contacted King, but he did not remember the excavation. King suggested that the excavation might have been an unplanned salvage project requested by an Indian Tribe—perhaps the Torres Martinez Desert Cahuilla Indians, California—when the Tribe heard that a cremation had been disturbed by nearby construction.) Markings on the bags from the excavation indicate that this cremation was removed from “48th + Jefferson—Indio,” which UCR NAGPRA Program Staff believe connotes the crossing of Avenue 48 and Jefferson Street in Indio. The site identification, “CV-126,” is consistent with the system used by the UCR Archaeological Research Unit in 1970s for work in the Coachella Valley. The collection is identified as accession #47 in the UCR Archaeological Curation Unit. The four lots of associated funerary objects are one lot consisting of shells, one lot consisting of charcoal, one lot consisting of soil and sand, and one lot consisting of geological materials.

Human remains representing, at minimum, two individuals were removed from Riverside County, California. In 1972, the cremated human remains belonging to two Native American juveniles, together with associated funerary objects, were removed from archeological site CA-RIV-273 (CV-139) during an investigation by the UCR Archaeological Research Unit led by Phillip Wilke. This site was reported to have been located near the historic village of Toro, to which many living members of the Torres Martinez Desert Cahuilla Indians, California can trace direct ancestry. Tribal members of the Torres-Martinez reservation had reportedly been long aware of a surface scatter of objects that they identified as funerary in nature. According to ethnographic accounts and archeological evidence, the burials likely date to the early 19th century. Although the human remains were reportedly reburied by the Agua Caliente Band of Cahuilla Indians in 1990, Wilke and the UCR Anthropology Department did not transfer the associated funerary objects, and they remained at UCR. The 1,922 associated funerary objects are 43 bobcat phalanges, three animal bone beads, one ceramic spindle whorl, 1,276 ceramic sherds, one clay bead, one piece of fabric, two samples of floral material, three pieces of cordage, one fiber basketry fragment, two fiber carrying net fragments, 35 glass seed beads, 20 fire-cracked stones, eight flaked stone tools, two ground stone tools, one steatite arrow shaft straightener, one stone bead, four metal objects, two lots consisting of charred seeds, two faunal elements, one sandal, 512 Olivella shell beads, and one reconstructed clay olla.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, kinship, oral traditional, and expert opinion.

Determinations

Pursuant to NAGPRA and its implementing regulations, and after consultation with the appropriate Indian Tribes and Native Hawaiian organizations, the University of California, Riverside has determined that:

• The human remains described in this notice represent the physical remains of one individual of Native American ancestry.

• The 1,926 objects described in this notice are reasonably believed to have been placed with or near individual human remains at the time of death or later as part of the death rite or ceremony.

• There is a relationship of shared group identity that can be reasonably traced between the human remains and associated funerary objects described in this notice and the Torres Martinez Desert Cahuilla Indians, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 7, 2023. If competing requests for repatriation are received, the University of California, Riverside must determine the most appropriate requestor prior to repatriation. Requests for joint repatriation of the human remains and associated funerary objects are considered a single request and not competing requests. The University of California, Riverside is responsible for sending a copy of this notice to the Indian Tribe identified in this notice.

Authority: Native American Graves Protection and Repatriation Act, 25 U.S.C. 3003, and the implementing regulations, 43 CFR 10.9, 10.10, and 10.14.

Dated: June 28, 2023.
Melanie O'Brien,
Manager, National NAGPRA Program.

[FR Doc. 2023-14382 Filed 7-6-23; 8:45 am]

BILLING CODE 4312-52-P